DEPARTMENT OF ENERGY

Federal Energy Regulatory Commission

[Docket No. CP07-111-000]

Northwest Pipeline Corporation; Notice of Request Under Blanket Authorization

March 22, 2007.

Take notice that on March 19, 2007, Northwest Pipeline Corporation (Northwest), 295 Chipeta Way, Salt Lake City, Utah 84158, filed in Docket No. CP07-111-000, a prior notice request pursuant to sections 157.205 and 157.216 of the Federal Energy Regulatory Commission's regulations under the Natural Gas Act for authorization to abandon by sale to Williams Field Services Company, approximately 25.4 miles of the Union Oil Line and associated facilities, located in Garfield and Rio Blanco Counties, Colorado, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Specifically, Northwest proposes to abandon by sale, approximately 25.4 miles of 8-inch diameter pipeline of the Union Oil Line and associated facilities; the Parachute Receipt Meter Station, including two 6-inch meter skids and associated piping, valves, and appurtenances; the Parachute Delivery Meter Station, including piping, valves, and appurtenances remaining after partial abandonment by removal of station facilities under Northwest's blanket certificate; and cathodic protection stations. Northwest states that the estimated sales price of $1,972,586 represents the net book value of the facilities at the time of closing plus Northwest's related abandonment costs of approximately $50,000.

Any questions regarding the application should be directed to Gary K. Kotter, Manager, Certificates and Tariffs, Northwest Pipeline Corporation, P.O. Box 58900, Salt Lake City, Utah 84158-0900, or call at (801) 584-7117.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (www.ferc.gov) under the “e-Filing” link.

Philis J. Posey,
Acting Secretary.

[FR Doc. E7-5694 Filed 3-28-07; 8:45 am]

BILLING CODE 6717-01-P